DEPARTMENT OF COMMERCE

International Trade Administration

[A-533-838, A-570-892]

Carbazole Violet Pigment 23 From India and the People's Republic of China: Continuation of Antidumping Duty Orders

AGENCY: Import Administration, International Trade Administration, Department of Commerce.

SUMMARY: As a result of the determinations by the Department of Commerce (Department) and the International Trade Commission (ITC) that revocation of the antidumping duty orders on carbazole violet pigment 23 (CVP-23) from India and the People's Republic of China (PRC) would likely lead to a continuation or recurrence of dumping and material injury to an industry in the United States, the Department is publishing a notice of continuation for the antidumping duty orders.

DATES: Effective Date: May 27, 2010.

FOR FURTHER INFORMATION CONTACT: Bryan Hansen or Minoo Hatten, AD/CVD Operations, Office 5, Import Administration, International Trade Administration, U.S. Department of Commerce, 14th Street and Constitution Avenue, NW., Washington, DC 20230; telephone: (202) 482-3683 or (202) 482-1690, respectively.

SUPPLEMENTARY INFORMATION:

Background

On November 2, 2009, the Department initiated and the ITC instituted sunset reviews of the antidumping duty orders on CVP-23 from India and the PRC ¹ pursuant to section 751(c) of the Tariff Act of 1930, as amended (the Act). See Initiation of Five-Year (“Sunset”) Review, 74 FR 56593 (November 2, 2009); See also Carbazole Violet Pigment 23 From China and India, 74 FR 56663 (November 2, 2009).

¹ On December 29, 2004, the Department published the following antidumping duty orders: Antidumping Duty Order: Carbazole Violet Pigment 23 From the People's Republic of China, 69 FR 77987 (December 29, 2004); Notice of Amended Final Determination of Sales at Less Than Fair Value and Antidumping Duty Order: Carbazole Violet Pigment 23 From India, 69 FR 77988 (December 29, 2004).

As a result of these sunset reviews, the Department determined that revocation of the antidumping duty orders would likely lead to continuation or recurrence of dumping and, therefore, notified the ITC of the magnitude of the margins likely to prevail should the orders be revoked. See Carbazole Violet Pigment 23 from India and the People's Republic of China: Final Results of the Expedited Sunset Reviews of the Antidumping Duty Orders, 75 FR 12497 (March 16, 2010).

On May 10, 2010, pursuant to section 751(c) of the Act, the ITC determined that revocation of the antidumping duty order on CVP-23 from India and the PRC would likely lead to continuation or recurrence of material injury to an industry in the United States within a reasonably foreseeable time. See Carbazole Violet Pigment 23 from China and India: Investigation Nos. 701-TA-437 and 731-TA-1060 and 1061, USITC Publication 4151 (April 2010). See also Carbazole Violet Pigment 23 from China and India; Determinations, 75 FR 27815 (May 18, 2010).

Scope of the Orders

The merchandise subject to these antidumping duty orders is CVP-23 identified as Color Index No. 51319 and Chemical Abstract No. 6358-30-1, with the chemical name of diindolo [3,2-b:3′,2′-m] ² triphenodioxazine, 8,18-dichloro-5, 15-diethyl-5, 15-dihydro-, and molecular formula of C34H22Cl2N4O2. The subject merchandise includes the crude pigment in any form (e.g., dry powder, paste, wet cake) and finished pigment in the form of presscake and dry color. Pigment dispersions in any form (e.g., pigment dispersed in oleoresins, flammable solvents, water) are not included within the scope of the orders. The merchandise subject to the orders is classifiable under subheading 3204.17.90.40 of the Harmonized Tariff Schedule of the United States (HTSUS). Although the HTSUS subheading is provided for convenience and customs purposes, the written descriptions of the scope of the orders are dispositive.

² The bracketed section of the product description, [3,2-b:3′,2′-m], is not business-proprietary information. In this case, the brackets are simply part of the chemical nomenclature.

Continuation of the Orders

As a result of these determinations by the Department and the ITC that revocation of these antidumping duty orders would likely lead to continuation or recurrence of dumping and material injury to an industry in the United States, pursuant to section 751(d)(2) of the Act, the Department hereby orders the continuation of the antidumping duty orders on CVP-23 from India and the PRC.

U.S. Customs and Border Protection will continue to collect antidumping duty cash deposits at the rates in effect at the time of entry for all imports of subject merchandise. The effective date of continuation of these orders will be the date of publication in the Federal Register of this notice of continuation. Pursuant to section 751(c)(2) of the Act, the Department intends to initiate the next five-year review of these orders not later than 30 days prior to the fifth anniversary of the effective date of continuation.

These five-year sunset reviews and this notice are in accordance with Section 751(c) of the Act and published pursuant to Section 777(i)(1) of the Act.

Dated: May 21, 2010.
Ronald K. Lorentzen,
Deputy Assistant Secretary for Import Administration.

[FR Doc. 2010-12822 Filed 5-26-10; 8:45 am]

BILLING CODE 3510-DS-P